SECURITIES AND EXCHANGE COMMISSION

[Release No. IC-25094]

Notice of Applications for Deregistration Under Section 8(f) of the Investment Company Act of 1940

July 27, 2001.

The following is a notice of applications for deregistration under section 8(f) of the Investment Company Act of 1940 for the month of July, 2001. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on August 21, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Hambrecht & Quist Fund Trust [File No. 811-9383]

Summary: Applicant seeks an order declaring that it has ceased to be an investment company. On March 23, 2001, applicant transferred its assets to J.P. Morgan H&Q IPO & Emerging Company Fund, a series of Mutual Fund Investment Trust, based on net asset value. Expenses incurred in connection with the reorganization were paid by Chase Manhattan Bank.

Filing Date: The application was filed on June 29, 2001.

Applicant's Address: One Bush Street, San Francisco, CA 94104.

Cohen & Steers Realty Income Fund, Inc. [File No. 811-5605]

Summary: Applicant, a closed-end investment company, seeks an order declaring that it has ceased to be an investment company. On May 31, 2001, applicant transferred its assets to Cohen & Steers Total Return Realty Fund, Inc. based on net asset value. Expenses of approximately $313,000 incurred in connection with the reorganization were shared equally by applicant and the acquiring fund.

Filing Date: The application was filed on June 25, 2001.

Applicant's Address: 757 Third Avenue, New York, NY 10017.

Jakarta Growth Fund, Inc. [File No. 811-6035]

Summary: Applicant, a closed-end investment company, seeks an order declaring that it has ceased to be an investment company. On June 11, 2001, applicant transferred its assets to The Indonesia Fund, Inc. based on net asset value. Expenses of $157,000 incurred in connection with the reorganization were paid by applicant and the acquiring fund.

Filing Date: The application was filed on June 20, 2001.

Applicant's Address: Nomura Asset Management U.S.A. Inc., 180 Maiden Lane, New York, NY 10038.

Fasciano Fund, Inc. [File No. 811-5602]

Summary: Applicant seeks an order declaring that it has ceased to be an investment company. On March 23, 2001, applicant transferred its assets to Neuberger Berman Fasciano Fund, a series of Neuberger Berman Equity Funds, based on net asset value. Expenses of $94,279 incurred in connection with the reorganization were paid by Fasciano Company, Inc., applicant's investment adviser, and Neuberger Berman Management Inc.

Filing Date: The application was filed on July 10, 2001.

Applicant's Address: 190 South La Salle Street, Suite 2800, Chicago, IL 60602.

ZFNB Asset Fund, Inc. [File No. 811-10033]

Summary: Applicant, a closed-end investment company, seeks an order declaring that it has ceased to be an investment company. On July 3, 2001, applicant made a liquidating distribution to its shareholders based on net asset value. Expenses of approximately $8,000 incurred in connection with the liquidation were paid by applicant.

Filing Date: The application was filed on July 3, 2001.

Applicant's Address: One South Main, Suite 1380, Salt Lake City, UT 84111.

CUFUND [File No. 811-6488]

Summary: Applicant seeks an order declaring that it has ceased to be an investment company. On April 30, 2001, applicant made a liquidating distribution to its shareholders based on net asset value. Expenses of approximately $14,000 incurred in connection with the liquidation were paid by applicant.

Filing Date: The application was filed on July 2, 2001.

Applicant's Address: 101 Federal Street, Boston, MA 02112.

NBT Investment Company, Inc. [File No. 811-9967]

Summary: Applicant, a closed-end investment company, seeks an order declaring that it has ceased to be an investment company. On June 25, 2001, applicant made a liquidating distribution to its shareholders based on net asset value. Expenses of approximately $8,000 incurred in connection with the liquidation were paid by applicant.

Filing Date: The application was filed on June 26, 2001.

Applicant's Address: 52 S. Broad Street, Norwich, NY 13815.

Midas Magic, Inc. [File No. 811-4534]

Summary: Applicant seeks an order declaring that it has ceased to be an investment company. On April 30, 2001, applicant made a liquidating distribution to its shareholders based on net asset value. Expenses of $2,000 incurred in connection with the liquidation were paid by applicant. Applicant has retained $23,037 to cover outstanding debts and liabilities which is held in cash by applicant's custodian, State Street Bank and Trust.

Filing Date: The application was filed on June 28, 2001.

Applicant's Address: 11 Hanover Sq., New York, NY 10005.

Prudential Global Genesis Fund, Inc. [File No. 811-5248]

Summary: Applicant seeks an order declaring that it has ceased to be an investment company. On May 30, 2001, applicant transferred its assets to The Prudential Global Growth Fund, a series of Prudential World Fund, Inc., based on net asset value. Expenses of $50,000 incurred in connection with the reorganization were paid pro rata by applicant and the acquiring fund.

Filing Date: The application was filed on June 15, 2001.

Applicant's Address: Gateway Center Three, 100 Mulberry Street, Newark, NJ 07102-4077.

CypressTree Senior Floating Rate Fund, Inc. [File No. 811-8309]

Summary: Applicant, a closed-end investment company, seeks an order declaring that it has ceased to be an investment company. On May 11, 2001 and May 31, 2001, applicant transferred its assets to North American Senior Floating Rate Fund, Inc. based on net asset value. Expenses of $135,000 incurred in connection with the reorganization were paid by American General Asset Management Corp., applicant's investment adviser.

Filing Date: The application was filed on June 18, 2001.

Applicant's Address: 286 Congress Street, Boston, MA 02210.

Reserve Institutional Trust [File No. 811-3141]

Summary: Applicant seeks an order declaring that it has ceased to be an investment company. On May 25, 2001, applicant made a liquidating distribution to its shareholders based on net asset value. Expenses incurred in connection with the liquidation were paid by Reserve Management Co., Inc., applicant's investment adviser.

Filing Date: The application was filed on June 14, 2001.

Applicant's Address: 1250 Broadway, New York, NY 10001-3701.

The Fleming Emerging Europe Fund, Inc. [File No. 811-8400]

Summary: Applicant seeks an order declaring that it has ceased to be an investment company. Applicant has never made a public offering of its securities and does not propose to make a public offering or engage in business of any kind.

Filing Date: The application was filed on May 24, 2001, and amended on June 27, 2001, July 3, 2001, and July 5, 2001.

Applicant's Address: c/o John B. Frisch, Esq., Miles & Stockbridge, 10 Light Street, Baltimore, MD 21202-1487.

Bartlett Capital Trust [File No. 811-3613]

Summary: Applicant seeks an order declaring that it has ceased to be an investment company. On March 16, 2001, Bartlett Basic Value Fund, a series of applicant, transferred its assets to Legg Mason Balanced Trust, a series of Legg Mason Investors Trust, Inc., based on net asset value. On March 23, 2001, Bartlett Value International Fund, a series of applicant, transferred its assets to Legg Mason Europe Fund, a series of Legg Mason Global Trust, Inc., based on net asset value. Expenses of $178,298 incurred in connection with the reorganization were paid by Legg Mason Wood Walker, Incorporated.

Filing Date: The application was filed on June 19, 2001.

Applicant's Address: 36 East Fourth St., Cincinnati, OH 45202.

Worldwide DollarVest Fund, Inc. [File No. 811-7127]

Summary: Applicant, a closed-end investment company, seeks an order declaring that it has ceased to be an investment company. On November 6, 2000, applicant transferred its assets to Merrill Lynch Emerging Market Debt Fund, Inc., based on net asset value. Expenses of $212,720 incurred in connection with the reorganization were paid by the surveying fund.

Filing Date: The application was filed on May 11, 2001 and amended on July 11, 2001.

Applicant's Address: 800 Scudders Mill Rd., Plainsboro, NJ 08536.

For the Commission, by the Division of Investment Management, pursuant to delegated authority.
Margaret H. McFarland,
Deputy Secretary.

[FR Doc. 01-19432 Filed 8-2-01; 8:45 am]

BILLING CODE 8010-01-M